DEPARTMENT OF ENERGY

Federal Energy Regulatory Commission

[Docket No. PR03-18-000]

Katy Storage and Transportation, L.P.; Notice of Petition for Rate Approval

October 2, 2003.

Take notice that on September 23, 2003, Katy Storage and Transportation, L.P. (KST) filed a petition for rate approval of market-based rates for storage services pursuant to § 284.123(b)(2) of the Commission's Regulations. KST requests approval of its proposed rates as being fair and equitable as it will lack the requisite market power to charge rates in excess of amounts that interstate pipelines and storage providers could charge for similar services.

KST affirms that it is an intrastate pipeline within the meaning of section 2(16) of the Natural Gas Policy Act (NGPA). Consistent with the Commission's approval of its Section 311 rates in Docket No. PR03-18-000, KST proposes to make its section 311 rates effective as of September 23, 2003.

Pursuant to section 284.123(b)(2)(ii), if the Commission does not act within 150 days of the date of this filing, the rates will be deemed to be fair and equitable and not in excess of an amount which interstate pipelines would be permitted to charge for similar transportation service. The Commission may, prior to the expiration of the 150 day period, extend the time for action or institute a proceeding to afford parties an opportunity for written comments and for the oral presentation of views, data, and arguments.

Any person desiring to participate in this rate proceeding must file a motion to intervene or protest with the Federal Energy Regulatory Commission, 888 First Street, NE., Washington DC 20426, in accordance with § 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the “eLibrary” link. Enter the docket number excluding the last three digits I the docket number field to access the document. For Assistance, call (866) 208-3676 or for TTY, (202) 502-8659. Comments, protests and interventions may be filed electronically via the Internet in lieu of paper. The Commission strongly encourages electronic filings. See, 18 CFR 385.2001(1)(iii) and the instructions on the Commission's Web site under the “e-Filing” link.

Comment Date: October 23, 2003.

Magalie R. Salas,
Secretary.

[FR Doc. E3-00012 Filed 10-8-03; 8:45 am]

BILLING CODE 6717-01-P